DEPARTMENT OF LABOR

Employment and Training Administration

[TA-W-53,752]

Tuscadora Yarns, Inc., Mt. Pleasant, NC; Notice of Termination of Investigation

Pursuant to section 221 of the Trade Act of 1974, an investigation was initiated on December 9, 2003, in response to a worker petition which was filed by a company official on behalf of workers at Tuscarora Yarns, Inc., Mt. Pleasant, North Carolina.

The petitioner has requested that the petition be withdrawn. Consequently, the investigation has been terminated.

Signed in Washington, DC this 9th day of January, 2004.
Richard Church,
Certifying Officer, Division of Trade Adjustment Assistance.

[FR Doc. 04-2602 Filed 2-5-04; 8:45 am]

BILLING CODE 4510-30-P